DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for June 18-19, 2002, beginning at 8:30 a.m. Arrange for oral presentations by June 14.

ADDRESSES: Boeing Commercial Airplane Group, 535 Garden Avenue North, Building 10-16, Room 12-C4, Renton, WA

FOR FURTHER INFORMATION CONTACT: Effie M. Upshaw, Office of Rulemaking, ARM-209, FAA, 800 Independence Avenue, SW., Washington, DC 20591, Telephone (202) 267-7626, FAX (202) 267-5075, or e-mail at effie.upshaw@faa.gov.

SUPPLEMENTARY INFORMATION: Pursuant to section 10(a)(2) of the Federal Advisory Committee Act (Pub. L. 92-463; 5 U.S.C. app. III), notice is given of an ARAC meeting to be held June 18-19 in Seattle Washington.

The agenda will include:

June 18, 2002

• Opening remarks

• FAA/Joint Aviation Authorities Conference report

• FAA report

• JAA report, including status of Single Worldwide Certification Code and establishment of European Aviation Safety Agency

• Transport Canada report

• Executive Committee report

• Harmonization Management Team report

• ARAC tasking priorities discussion

• Design for Security Harmonization Working Group (HWG) report and approval

• Flight Controls HWG report and approval

• Loads &Dynamics HWG report and approval

• Human Factors Harmonization Working Group (HWG) report

• System Design and Analysis HWG report

• Electrical Systems HWG report and update on Aging Transport Systems Rulemaking Advisory Committee activity

June 19

• General Structures HWG report and approval

• Airworthiness Assurance Working Group report

• Powerplant Installation HWG report and approval

• Ice Protection HWG report

• Written reports, as required, from the following HWGs: Electromagnetic Effects, Flight Test, Engine, Mechanical Systems, Avionics, Seat Test, Flight Control, and Flight Guidance

• Extended Range with Two-Engine Aircraft tasking update

Five working groups will be seeking approval of working group reports:

1. The Design for Security HWG for a report addressing the following areas in Amendment 97 to Annex 8 to the Convention on International Civil Aviation: survivability of systems, fire suppression, cabin smoke extraction, direction of smoke from the cockpit, least risk bomb location (identification), and least risk bomb location (design);

2. The Flight Controls HWG for a report addressing flight control system failures or jamming;

3. The Loads and Dynamics HWG for a report addressing flight loads validation;

4. The General Structures HWG for a report addressing damage-tolerance and fatigue evaluation of structures; and

5. The Powerplant Installation HWG for a report addressing the automatic takeoff thrust control system.

Attendance is open to the public, but will be limited to the availability of meeting room space and telephone lines. Visitor badges are required to gain entrance to the Boeing building where the meeting is being held. Please confirm your attendance with the person listed in the FOR FURTHER INFORMATION CONTACT section no later than June 14. Please provide the following information: full legal name, country of citizenship, and name of your company, if applicable.

For those participating by telephone, the call-in number is (206) 655-4990, Passcode 6975#. Details are also available on the ARAC calendar at http:­//www.faa.gov/avr/arm/araccal/htm. To insure that sufficient telephone lines are available, please notify the person listed in the FOR FURTHER INFORMATION CONTACT section of your intent by June 14. Anyone participating by telephone will be responsible for paying long-distance charges.

The public must make arrangements by June 14 to present oral statements at the meeting. Written statements may be presented to the committee at any time by providing 25 copies to the person listed in the FOR FURTHER INFORMATION CONTACT section or by provding copies at the meeting. Copies of the documents to be presented to ARAC for decision or as recommendations to the FAA may be made available by contacting the person listed in the FOR FURTHER INFORMATION CONTACT section.

If you are in need of assistance or require a reasonable accommodation for the meeting or meeting documents, please contact the person listed in the FOR FURTHER INFORMATION CONTACT section. Sign and oral interpretation, as well as a listening device, can be made available if requested 10 calendar days before the meeting.

Issued in Washington, DC on May 29, 2002.
Tony F. Fazio,
Director, Office of Rulemaking.

[FR Doc. 02-13966 Filed 6-3-02; 8:45 am]

BILLING CODE 4910-13-M